DEPARTMENT OF ENERGY

Federal Energy Regulatory Commission

Combined Notice of Filings #1

March 3, 2008.

Take notice that the Commission has received the following Natural Gas Pipeline Rate and Refund Report filings:

Docket Number: RP06-614-005.

Applicants: Transwestern Pipeline Company, LLC.

Description: Transwestern Pipeline Company, LLC Withdrawal of Wobbe and Btu Proposals.

Filed Date: 02/29/2008.

Accession Number: 20080229-5040.

Comment Date: 5 p.m. Eastern Time on Wednesday, March 12, 2008.

Docket Number: RP08-209-001.

Applicants: Kern River Gas Transmission Company.

Description: Kern River Gas Transmission's Submission of Revised Request for Waiver of Posting and Bidding Requirements for Permanent Release of Discounted Capacity.

Filed Date: 02/29/2008.

Accession Number: 20080229-5047.

Comment Date: 5 p.m. Eastern Time on Friday, March 7, 2008.

Docket Number: RP08-217-000.

Applicants: Questar Overthrust Pipeline Company.

Description: Questar Overthrust Pipeline Company submits Third Revised Sheet 6 to Second Revised Volume 1 and Non-Conforming Transportation Service Agreements & certificate of service to comply with 18 CFR Section 154.7(b).

Filed Date: 02/27/2008.

Accession Number: 20080229-0048.

Comment Date: 5 p.m. Eastern Time on Monday, March 10, 2008.

Docket Number: RP08-219-000.

Applicants: Questar Overthrust Pipeline Company.

Description: Questar Overthrust Pipeline Co submits Fourth Revised Sheet 6 to FERC Gas Tariff, Second Revised Volume 1-A, etc to be effective 1/1/08.

Filed Date: 02/28/2008.

Accession Number: 20080229-0083.

Comment Date: 5 p.m. Eastern Time on Tuesday, March 11, 2008.

Docket Number: RP08-220-000.

Applicants: Kern River Gas Transmission Company.

Description: Kern River Gas Transmission Co submits their Fifth Revised Eighteenth Revised Sheet 5 et al. to its FERC Gas Tariff, Second Revised Volume 1, to be effective 4/1/08.

Filed Date: 02/28/2008.

Accession Number: 20080229-0082.

Comment Date: 5 p.m. Eastern Time on Tuesday, March 11, 2008.

Docket Number: RP08-221-000.

Applicants: Crossroads Pipeline Company.

Description: Crossroads Pipeline Co submits their Eighth Revised Sheet 6 to its FERC Gas Tariff, First Revised Volume 1.

Filed Date: 02/28/2008.

Accession Number: 20080229-0081.

Comment Date: 5 p.m. Eastern Time on Tuesday, March 11, 2008.

Docket Number: RP08-222-000.

Applicants: Columbia Gas Transmission Corporation.

Description: Columbia Gas Transmission Corp submits the Twenty-First Revised Sheet 500B to its FERC Gas Tariff, Second Revised Volume 1, to be effective 3/5/08.

Filed Date: 02/28/2008.

Accession Number: 20080229-0080.

Comment Date: 5 p.m. Eastern Time on Tuesday, March 11, 2008.

Docket Number: CP08-79-000.

Applicants: Mardi Gras Midstream, L.L.C.

Description: Mardi Gras Midstream, L.L.C. filed an application for a order granting a limited jurisdictional certificate in order to allow them to succeed in providing service to Temple-Inland Corporation its sole interstate transportation customer.

Filed Date: 02/27/2008.

Accession Number: 20080229-0050.

Comment Date: 5 p.m. Eastern Time on Friday, March 14, 2008.

Docket Number: CP08-80-000.

Applicants: Mardi Gras Pipeline, L.L.C.

Description: Mardi Gras Pipeline, L.L.C. filed a petition for permission and approval to abandon natural gas transportation service to Temple-Inland Corporation.

Filed Date: 02/27/2008.

Accession Number: 20080229-0042.

Comment Date: 5 p.m. Eastern Time on Friday, March 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-4479 Filed 3-6-08; 8:45 am]

BILLING CODE 6717-01-P